ENVIRONMENTAL PROTECTION AGENCY

[EPA-HQ-RCRA-2008-0787; FRL-8906-6]

Notice of Availability of RCRA Closure and Post-Closure Care Cost Estimating Software

AGENCY: Environmental Protection Agency (EPA).

ACTION: Notice of Availability.

SUMMARY: The Environmental Protection Agency (EPA) is announcing the availability of a software package, referred to as CostPro, which will estimate the costs of RCRA Closure and Post-Closure care. Persons interested in obtaining a copy of the software package can contact EPA for a copy of this software.

DATES: This software will be available on or after May 1, 2009.

ADDRESSES: The official public docket is identified by Docket ID No. EPA-HQ-RCRA-2008-0737. All documents in the docket are listed in the http://www.regulations.gov index. Although listed in the index, some information is not publicly available, e.g., Confidential Business Information (CBI) or other information whose disclosure is restricted by statute. Certain other material, such as copyrighted material, will be publicly available only in hard copy. Publicly available docket materials are available either electronically in http://www.regulations.gov, or in hard copy at the RCRA Docket, EPA/DC, EPA West, Room 3334, 1301 Constitution Ave., NW., Washington DC. The Public Reading Room is open from 8:30 a.m. to 4:30 p.m., Monday through Friday, excluding legal holidays. The telephone number for the Public Reading Room is (202) 566-1744, and the telephone number for the RCRA Docket is (202) 566-0270.

FOR FURTHER INFORMATION CONTACT: For further information regarding distribution of this software, contact Bob Maxey, Office of Resource Conservation and Recovery, (703) 308-7273, maxey.bob@epa.gov. Mail inquiries may be directed to the Office of Resource Conservation and Recovery, (5303P), 1200 Pennsylvania Avenue, NW., Washington, DC 20460.

SUPPLEMENTARY INFORMATION:

A. What is the regulatory basis of this software?

Subtitle C of the Resource Conservation and Recovery Act (RCRA) establishes financial assurance requirements for owners or operators of hazardous waste treatment, storage, or disposal facilities (TSDF). The RCRA hazardous waste regulations, (40 CFR parts 264 and 265), require that the owner or operator of a TSDF which seeks a Part B permit or has interim status to prepare an estimate of the costs required to close the facility and the cost to perform post-closure care at the facility based on the costs of a third-party performing the work.

B. How was the cost estimating method developed?

In 1986, EPA developed a methodology to evaluate closure and post-closure cost estimates. The methodology is discussed in detail in Cost Estimates for Closure and Post-Closure Care Plans (EPA/530-SW-87-009). The methodology provides EPA and state permit writers with a consistent, accurate and rapid method of evaluating cost estimates for closure and post-closure care of TSDFs. The software resulting from this effort is called CostPro.

C. How long has CostPro been used?

EPA first issued CostPro in 1996; it has been updated four times, the last of which was completed in 2001.

D. Does this action apply to me?

The methods and procedures set forth in CostPro are intended primarily for the use of EPA and state personnel in evaluating the adequacy of current cost estimates for closure and post-closure care of typical hazardous waste TSDFs. EPA has received a number of inquiries about CostPro from industry. To provide industry with our basis for these estimates, EPA will provide copies of CostPro upon request, as described in this notice.

E. What are the benefits to the update of CostPro?

The primary benefits to the update of CostPro are that (1) it will be on a MS.NET 2.0 platform in C#, which is a contemporary software platform and (2) the program data have been updated to 2009 values.

F. How is a CostPro estimate developed?

CostPro's general procedure for evaluating a cost estimate for a TSDF involves:

• Identifying each facility waste management unit (e.g., container storage unit, tank, landfill, etc.) requiring closure or post-closure care;

• Identifying the closure or post-closure care activities to be conducted at each waste management unit;

• Completing inventory worksheets provided for each waste management unit;

• Completing closure or post-closure care worksheets for primary and support worksheets for each waste management unit (e.g., removal, transportation and disposal of waste, building decontamination, and sampling and analysis, etc.); and,

• Evaluating total cost summary worksheets for each waste management unit and for the facility as a whole.

G. What are the sources of CostPro data?

The primary sources of cost information include the 2009 R.S. Means Means Building Construction Cost Data and Means Site Work and Landscape Cost Data guides and the 2006 Azimuth ECHOS (Environmental Cost Handling Options and Solutions) Environmental Remediation Cost Data guide. EPA has paid a fee to these companies for the use of these data by EPA and state government personnel only. Some data, e.g., costs for geotextile netting and geomembranes for landfills have been supplied by vendors.

H. How can the public obtain a copy of CostPro?

Because EPA's license for use of the program data extends only to EPA and one copy for each state government, public users who want to obtain a copy of the software package (or state governments that want to obtain more than one copy of the software package) will be asked to pay a fee to R.S. Means for its use, and submit proof to EPA that appropriate permission has been obtained from the R.S. Means Company. Contact Peter Cholakis of R.S. Means at peter.cholakis@reedbusiness.com. EPA will then mail a CD to the requester. See EPA contact information above.

Dated: May 11, 2009.
Matt Hale,
Director, Office of Resource Conservation and Recovery.

[FR Doc. E9-11741 Filed 5-19-09; 8:45 am]

BILLING CODE 6560-50-P